DEPARTMENT OF COMMERCE

National Oceanic and Atmospheric Administration

RIN 0648-XC042

South Atlantic Fishery Management Council; Public Meetings

AGENCY: National Marine Fisheries Service (NMFS), National Oceanic and Atmospheric Administration (NOAA), Commerce.

ACTION: Notice of public meetings.

SUMMARY: The South Atlantic Fishery Management Council will hold meetings of its Ecosystem-Based Management Committee; Dolphin Wahoo Committee; Shrimp Committee; Snapper Grouper Committee; Ad Hoc Data Collection Committee; King and Spanish Mackerel Committee; Advisory Panel Selection Committee (Closed Session); Scientific and Statistical Selection Committee (Closed Session); Golden Crab Committee; Law Enforcement Committee; Southeast Data Assessment and Review (SEDAR) Committee; and a meeting of the Full Council. The Council will take action as necessary.

The Council will also hold a Habitat Workshop for Council members, an informal public question and answer session regarding agenda items, and a formal public comment session. See SUPPLEMENTARY INFORMATION for additional details.

DATES: The meetings will be held June 11-15, 2012. See SUPPLEMENTARY INFORMATION for specific dates and times.

ADDRESSES: The meetings will be held at the Renaissance Orlando Airport Hotel, 5445 Forbes Place, Orlando, FL 32812; telephone: (1-800) 545-1985 or (407) 240-1000; fax: (407) 240-1005. Copies of documents are available from Kim Iverson, Public Information Officer, South Atlantic Fishery Management Council, 4055 Faber Place Drive, Suite 201, North Charleston, SC 29405.

FOR FURTHER INFORMATION CONTACT: Kim Iverson, Public Information Officer; telephone: (843) 571-4366 or toll free at (866) SAFMC-10; fax: (843)/769-4520; email: kim.iverson@safmc.net.

SUPPLEMENTARY INFORMATION:

Meeting Dates

1. Council Member Habitat Workshop: June 11, 2012, 9 a.m. Until 12 Noon

The Council Member Habitat Workshop will receive an overview and demonstration of the Information Management System (IMS). The workshop will include a hands-on session with individual assistance.

2. Ecosystem-Based Management Committee Meeting: June 11, 2012, 1:30 p.m. Until 3:30 p.m.

The Ecosystem-Based Management Committee will receive Advisory Panel (AP) reports, review the decision document for Comprehensive Ecosystem-Based Amendment 3 (CE-BA 3), provide recommendations relative to management measures for Coral Habitat Areas of Particular Concern (HAPC), and public hearings. The Committee will receive an update on ecosystem activities and provide direction to staff.

3. Dolphin Wahoo Committee Meeting: June 11, 2012, 3:30 p.m. Until 4:30 p.m.

The Dolphin Wahoo Committee will receive a report on the status of catches versus Annual Catch Limits (ACLs), as well as a report from the Dolphin Wahoo AP.

4. Shrimp Committee Meeting: June 11, 2012, 4:30 p.m. Until 6 p.m.

The Shrimp Committee will receive a presentation on the Endangered Species Act listing of Atlantic sturgeon and on the Biological Opinion of the South Atlantic Shrimp Fishery. The Committee will also receive reports from its advisory panels and from the Shrimp Review Panel. The Committee will review actions and alternatives in Shrimp Amendment 9, which would expedite the closure process during severe cold events in order to protect overwintering shrimp populations and would revise the Minimum Stock Size Threshold (MSST) proxy for pink shrimp. The Committee is scheduled to recommend the amendment for public hearings, take action as appropriate and provide guidance to staff.

5. Snapper Grouper Committee Meeting: June 12, 2012, 8:30 a.m. Until 5:30 p.m. and June 13, 2012, 8:30 a.m. Until 12 Noon

The Snapper Grouper Committee will receive updates on: Oculina research activities; the status of catches versus quotas for species under quota management (including all snapper grouper species included in the Comprehensive ACL Amendment); the status of the new Southeast Fisheries Science Center (SEFSC) Quota Monitoring Program; and the status of the delinquent logbook review. The Committee will address any necessary actions as the result of these reports. The Committee will receive updates on the status of amendments under Secretarial Review and reports from the Council's Scientific and Statistical Committee (SSC) and Snapper Grouper AP. The Committee will discuss the resubmittal of Action 4 in Snapper Grouper Amendment 18A addressing the transferability of black sea bass endorsements, and recommend the resubmitted action for formal review. The Committee will also review Amendment 18B that includes measures to limit participation in the commercial golden tilefish fishery, modify the amendment as necessary, and provide recommendations for submission for Secretarial review. The Committee will also review available information and recommendations relative to creating Marine Protected Areas (MPAs) and/or HAPCs for speckled hind and warsaw grouper, select preferred alternatives, and provide recommendations as appropriate for public hearings as part of CE-BA 3. The Committee will also receive a presentation of the Marine Resources Monitoring Assessment and Prediction Program's (MARMAP) fishery-independent catch per unit effort (CPUE), discuss the potential for reopening a limited red snapper fishery via an Emergency Rule, discuss potential changes in black sea bass management, and provide recommendations as appropriate.

6. Ad Hoc Data Collection Committee Meeting: June 13, 2012, 1:30 p.m. Until 5 p.m.

The Ad Hoc Data Collection Committee will receive presentations on quota monitoring/dealer reporting and tracking harvested fish in Florida and NMFS commercial and recreational quotas/ACL monitoring and projections. The Committee will review the joint Gulf and South Atlantic Council Generic Dealer Amendment and provide recommendations. The Committee will also review and discuss actions relative to data collection in CE-BA 3 and provide recommendations for public hearings.

Note: There will be an informal public question and answer session with the NMFS Regional Administrator and the Council Chairman on June 13, 2012, beginning at 5:30 p.m.

7. King and Spanish Mackerel Committee Meeting: June 14, 2012, 8:30 a.m. Until 12 Noon

The King and Spanish Mackerel Committee will receive updates on the status of catches versus ACLs for king mackerel, Spanish mackerel and cobia as well as a report from the Mackerel AP. The Committee will review and discuss the joint Gulf and South Atlantic Mackerel Amendment 19 pertaining to permits and tournament sale requirements, Amendment 20 regarding boundaries and transit provisions and provide recommendations for public hearings. The Committee will review and discuss the South Atlantic Mackerel Framework, and provide guidance to staff.

8. Advisory Panel Selection Committee Meeting: June 14, 2012, 1:30 p.m. Until 2:30 p.m. (Closed Session)

The Advisory Panel Selection Committee will review advisory panel applications and develop recommendations for appointments.

9. Scientific and Statistical Selection Committee Meeting: June 14, 2012, 2:30 p.m. Until 3:30 p.m. (Closed Session)

The Scientific and Statistical Selection Committee (SSC) will review SSC applications and develop recommendations for appointments. The Committee will also review SSC policies.

10. Golden Crab Committee Meeting: June 14, 2012, 3:30 p.m. Until 4:30 p.m.

The Golden Crab Committee will review the “Expression of Interest” responses for catch shares from golden crab fishermen as well as Amendment 6, pertaining to establishing a catch share program for the commercial golden crab fishery. The Committee will modify the amendment as appropriate and provide recommendations relative for submission of the amendment for Secretarial review.

11. Law Enforcement Committee Meeting: June 14, 2012, 4:30 p.m. Until 5:30 p.m.

The Law Enforcement Committee will: Review law enforcement efforts in the Deepwater MPAs; and will receive briefings from the NOAA Office of Law Enforcement and the U.S. Coast Guard. The Committee will discuss issues as appropriate and select the 2011 Law Enforcement Officer of the Year.

Note: A formal public comment session will be held on June 14, 2012, beginning at 5:30 p.m., on: Snapper Grouper Amendment 18A, Action 4 (transferability of black sea bass endorsements); Snapper Grouper Amendment 18B (golden tilefish); and Golden Crab Amendment 6 (catch shares); followed by comment on any other item on the agenda.

12. SEDAR Committee Meeting: June 15, 2012, 8 a.m. Until 9 a.m.

The SEDAR Committee will receive an overview of SEDAR activities and a presentation on the SSC Only Reliable Catch Stocks (ORCS) workshop. The Committee will review, discuss and approve the SAFMC Research Prioritization Plan and develop SEDAR Steering Committee recommendations for Council SEDAR members and staff.

Council Session: June 15, 2012, 9:30 a.m. Until 4 p.m.

From 9 a.m. until 9:30 a.m., the Council will call the meeting to order, adopt the agenda, and approve the March 2012 meeting minutes.

From 9:30 a.m. until 10:30 a.m., the Council will receive a report from the Snapper Grouper Committee, approve the resubmittal of Amendment 18A/Action 4 and Amendment 18B for formal Secretarial review, approve speckled hind/warsaw grouper actions in CE-BA 3 for public hearing, consider other Committee recommendations and take action as appropriate.

From 10:30 a.m. until 11 a.m., the Council will receive a report from the Golden Crab Committee, approve Amendment 6 for formal Secretarial review, consider recommendations and take action as appropriate.

From 11 a.m. until 11:15 a.m., the Council will receive a report from the Ecosystem-Based Management Committee, approve Coral HAPC actions in CE-BA 3 for public hearing, consider other Committee recommendations and take action as appropriate.

From 11:15 a.m. until 11:30 a.m., the Council will receive a report from the Dolphin Wahoo Committee, consider other Committee recommendations and take action as appropriate.

From 11:30 a.m. until 11:45 a.m., the Council will receive a report from the Shrimp Committee, approve Amendment 9 for public hearing, consider other Committee recommendations and take action as appropriate.

From 11:45 a.m. until 12 noon, the Council will receive a report from the Ad Hoc Data Collection Committee, approve data actions in CE-BA 3 for public hearing, consider other Committee recommendations and take action as appropriate.

From 1 p.m. until 1:15 p.m., the Council will receive a legal briefing on litigation. (Closed Session)

From 1:15 p.m. until 1:30 p.m., the Council will receive a report from the King and Spanish Mackerel Committee, approve Amendments 19 and 20 for public hearings, consider other Committee recommendations and take action as appropriate.

From 1:30 p.m. until 1:45 p.m., the Council will receive a report from the Advisory Panel Selection Committee, review applications and make appointments, consider other Committee recommendations and take action as appropriate.

From 1:45 p.m. until 2 p.m., the Council will receive a report from the SSC Selection Committee, review applications and make appointments, consider other Committee recommendations and take action as appropriate.

From 2 p.m. until 2:15 p.m., the Council will receive a report from the Law Enforcement Committee, select the Law Enforcement Officer of the Year, consider other Committee recommendations and take action as appropriate.

From 2:15 p.m. until 2:30 p.m., the Council will receive a report from the SEDAR Committee, consider Committee recommendations and take action as appropriate.

From 2:30 p.m. until 4 p.m., the Council will receive presentations and status reports from the NOAA Southeast Regional Office (SERO) and the NMFS SEFSC, review agency and liaison reports, and discuss other business, including upcoming meetings.

Documents regarding these issues are available from the Council office (see ADDRESSES).

Although non-emergency issues not contained in this agenda may come before this Council for discussion, those issues may not be the subjects of formal final Council action during these meetings. Council action will be restricted to those issues specifically listed in this notice and any issues arising after publication of this notice that require emergency action under section 305(c) of the Magnuson-Stevens Act, provided the public has been notified of the Council's intent to take final action to address the emergency.

Except for advertised (scheduled) public hearings and public comment, the times and sequence specified on this agenda are subject to change.

Special Accommodations

These meetings are physically accessible to people with disabilities. Requests for sign language interpretation or other auxiliary aids should be directed to the Council office (see ADDRESSES) by June 5, 2012.

Dated: May 21, 2012.
Tracey L. Thompson,
Acting Director, Office of Sustainable Fisheries, National Marine Fisheries Service.

[FR Doc. 2012-12677 Filed 5-24-12; 8:45 am]

BILLING CODE 3510-22-P